DEPARTMENT OF HEALTH AND HUMAN SERVICES (HHS)

Centers for Disease Control and Prevention (CDC)

Board of Scientific Counselors, Coordinating Office for Terrorism Preparedness and Emergency Response (BSC, COTPER)

Correction: This notice was published in the Federal Register on March 20, 2009, Volume 74, Number 53, Page 11958. The time and date, place, status, and matters to be discussed for the aforementioned meeting have been changed to the following:

Time and Date: 2 p.m.-4:30 p.m., April 27, 2009.

Place: Web Conference. Please contact the BSC Coordinator (see Contact Person for More Information) to obtain further instructions on how to participate by phone and online. Members of the public may also attend this meeting in person at CDC, 1600 Clifton Road, NE., Global Communications Center, Building 19, Room 245/246, Atlanta, Georgia 30333.

Status: This Web conference will be open to the public, limited only by the public meeting space available for individuals participating in person. The public meeting room accommodates approximately 50 people. Visitors to the CDC campus must be processed in accordance with established federal policies and procedures and should pre-register for the meeting as described in Additional Information for Visitors.

Purpose: This Board is charged with advising the Secretary, HHS, and the Director, CDC, concerning strategies and goals for the programs and research within COTPER; monitoring the strategic direction and focus of the Divisions; and conducting peer review of scientific programs. For additional information about the BSC, COTPER please visit: http://emergency.cdc.gov/cotper/science/counselors.asp.

Matters to be Discussed: A briefing on the findings of the workgroup for external peer review of COTPER's fiscal allocation process followed by summary recommendations from the Board. Agenda items are subject to change as priorities dictate.

Additional Information for Visitors: All visitors are required to present a valid form of picture identification issued by a state, federal or international government. To expedite the security clearance process for visitors to the CDC Roybal campus, all visitors should pre-register by submitting the following information by e-mail or phone (see Contact Person for More Information) by 12 noon (EDT) on Wednesday, April 13, 2009:

• Full Name,

• Organizational Affiliation,

• Complete Mailing Address,

• Citizenship, and

• Phone Number or E-mail Address

For foreign nationals or non-US citizens, pre-approval is required. Please contact the BSC Coordinator (see Contact Person for More Information) in advance of the posted pre-registration deadline for additional security requirements that must be met.

Contact Person for More Information: Matthew Jennings, BSC Coordinator, COTPER, CDC, 1600 Clifton Rd NE., Mailstop D-44, Atlanta, GA 30333, Telephone: (404) 639-7357; Facsimile: (404) 639-7977; E-mail: COTPER.BSC.Questions@cdc.gov.

The Director, Management Analysis and Service Office, has been delegated the authority to sign Federal Register notices pertaining to announcements of meetings and other committee management activities for both CDC and Agency for Toxic Substances and Disease Registry.

Dated: April 4, 2009.
Elaine L. Baker,
Director, Management Analysis and Service Office, Centers for Disease Control and Prevention.

[FR Doc. E9-8858 Filed 4-16-09; 8:45 am]

BILLING CODE 4163-18-P